DEPARTMENT OF THE INTERIOR

National Park Service

[NPS-WASO-NAGPRA-NPS0035096; PPWOCRADN0-PCU00RP14.R50000]

Notice of Intent To Repatriate Cultural Items: University of California, Riverside, Riverside, CA

AGENCY: National Park Service, Interior.

ACTION: Notice.

SUMMARY: In accordance with the Native American Graves Protection and Repatriation Act (NAGPRA), the University of California, Riverside intends to repatriate certain cultural items that meet the definition of objects of cultural patrimony and that have a cultural affiliation with the Indian Tribes or Native Hawaiian organizations in this notice. The cultural items were removed from Mono County, CA.

DATES: Repatriation of the cultural items in this notice may occur on or after February 13, 2023.

ADDRESSES: Megan Murphy, University of California, Riverside, 900 University Avenue, Riverside, CA 92517-5900, telephone (951) 827-6349, email megan.murphy@ucr.edu.

SUPPLEMENTARY INFORMATION: This notice is published as part of the National Park Service's administrative responsibilities under NAGPRA. The determinations in this notice are the sole responsibility of the University of California, Riverside. The National Park Service is not responsible for the determinations in this notice. Additional information on the determinations in this notice, including the results of consultation, can be found in the summary or related records held by the University of California, Riverside.

Description

Thirteen cultural items were removed from site CA-Mno-2122 in Mono, CA, during an archeological excavation led by Brooke Arkush from the University of California, Riverside. The primary objective of the investigation was to track material cultural changes and subsistence practices of the Mono Lake Paiute from the Late Archaic Period (circa A.D. 500) to the Euro-American Settlement of the lake basin (A.D. 1850-1920). The objects removed from the site represent approximately 1,500 years' worth of indigenous use and occupation of the landscape. Arkush particularly focused on corral traps used by the Mono Lake Paiute for hunting pronghorn.

The 13 objects of cultural patrimony are one lot of animal bones, one lot of ceramic sherds and vessels, one lot of glass shards and vessels, one lot of lithic flakes and arrowheads, one lot of metal fragments, one lot of shell artifacts and unmodified shell, one lot of wood artifacts, one lot of seed pods, one lot of mineralogical objects, one lot of glass beads, one lot of stones for milling, one lot of buttons (shell, metal, and wood), and one lot of fire-altered rock.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: archeological, geographical, historical, kinship, oral traditional, and expert opinion.

Through consultation with tribal representatives, the University of California, Riverside finds that this site is culturally affiliated with the Utu Utu Gwaitu Paiute Tribe of the Benton Paiute Reservation, California, and the Bridgeport Paiute Indian Colony. The Utu Utu Gwaitu Paiute Tribe of the Benton Paiute Reservation, California considers the Owens Valley and Northern Paiute to be one related people and indigenous to the areas in which they now reside.

The Mono Lake Kootzaduka'a Tribe, a non-federally recognized Indian group that also was consulted, consider the Mono Lake Basin to be their aboriginal territory, too. This group's representatives stated that Mono Lake families are related to families who are now members of the Utu Utu Gwaitu Paiute Tribe of the Benton Paiute Reservation, California, and the Bridgeport Paiute Indian Colony.

Determinations

Pursuant to NAGPRA and its implementing regulations, and after consultation with the appropriate Indian Tribes and Native Hawaiian organizations, the University of California, Riverside has determined that:

• The 13 cultural items described above have ongoing historical, traditional, or cultural importance central to the Native American group or culture itself, rather than property owned by an individual.

• There is a relationship of shared group identity that can be reasonably traced between the cultural items and the Utu Utu Gwaitu Paiute Tribe of the Benton Paiute Reservation, California, and the Bridgeport Indian Colony (previously listed as Bridgeport Paiute Indian Colony of California).

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after February 13, 2023. If competing requests for repatriation are received, the University of California, Riverside must determine the most appropriate requestor prior to repatriation. Requests for joint repatriation of the cultural items are considered a single request and not competing requests. The University of California, Riverside is responsible for sending a copy of this notice to the Indian Tribes identified in this notice.

Authority: Native American Graves Protection and Repatriation Act, 25 U.S.C. 3003, and the implementing regulations, 43 CFR 10.8, 10.10, and 10.14.

Dated: January 4, 2023.
Melanie O'Brien,
Manager, National NAGPRA Program.

[FR Doc. 2023-00467 Filed 1-11-23; 8:45 am]

BILLING CODE 4312-52-P